ENVIRONMENTAL PROTECTION AGENCY

[FRL-8705-8]

Science Advisory Board Staff Office; Notification of Upcoming Meeting of the Science Advisory Board Environmental Engineering Committee

AGENCY: Environmental Protection Agency (EPA).

ACTION: Notice.

SUMMARY: The Science Advisory Board (SAB) Staff Office announces a public meeting of the SAB Environmental Engineering Committee to provide consultative advice to EPA's Office of Pollution Prevention and Toxics (OPPT) on possible new approaches for measuring results of pollution prevention activities. The Committee will also discuss its advisory activities for the coming fiscal year.

DATES: The meeting dates are Wednesday, September 3, 2008 from 9 a.m. to 5:30 p.m. through Thursday, September 4, 2008 from 9 a.m. to 2 p.m. (Eastern Time).

ADDRESSES: The meeting will be held in the SAB Conference Center, located at 1025 F Street, NW., Suite 3705, Washington, DC 20004.

FOR FURTHER INFORMATION CONTACT: Members of the public who wish to obtain further information about this meeting must contact Ms. Kathleen White, Designated Federal Officer (DFO). Ms. White may be contacted at the EPA Science Advisory Board (1400F), U.S. Environmental Protection Agency, 1200 Pennsylvania Avenue, NW., Washington, DC 20460; or via telephone/voice mail; (202) 343-9878; fax (202) 233-0643; or e-mail at: white.kathleen@epa.gov. General information about the EPA SAB, as well as any updates concerning the meeting announced in this notice, may be found on the SAB Web site at: http://www.epa.gov/sab.

SUPPLEMENTARY INFORMATION: Pursuant to the Federal Advisory Committee Act, Public Law 92-463, notice is hereby given that the SAB Environmental Engineering Committee will hold a public meeting to provide consultative advice on measuring new annual and recurring results across all OPPT pollution prevention-related program centers. OPPT currently uses a suite of measures to evaluate the effectiveness of pollution prevention programs and would like to add measures to more fully capture economic and other benefits of pollution prevention. The Committee will also discuss its advisory activities for the coming year.

The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: OPPT manages programs under the Toxic Substances Control Act (TSCA) and the Pollution Prevention Act (PPA). Under these laws, EPA evaluates new and existing chemicals and their risks and finds ways to prevent or reduce environmental pollution. OPPT also manages a variety of environmental stewardship programs that encourage companies to reduce and prevent pollution. Pollution prevention (P2) is reducing or eliminating waste at the source by modifying production processes, promoting the use of non-toxic or less-toxic substances, implementing conservation techniques, and re-using materials rather than putting them into the waste stream. The pollution prevention programs are described at http://www.epa.gov/p2/.

The SAB Environmental Engineering Committee will be augmented with additional SAB members with expertise in pollution prevention, voluntary programs, and economic measures of results. The roster and biosketches of those members participating in the consultation will be posted on the SAB Web site at: http://www.epa.gov/sab.

Availability of Meeting Materials: The agenda and other material for the upcoming public meeting will be posted on the SAB Web site at: http://www.epa.gov/sab.

Procedures for Providing Public Input: Interested members of the public may submit relevant written or oral information for the SAB Panel to consider on the topics included in this advisory activity, or the group conducting the activity. Oral Statements: In general, individuals or groups requesting an oral presentation at a public meeting will be limited to five minutes per speaker, with no more than a total of one hour for all speakers. Interested parties should contact Ms. White, DFO, in writing (preferably via e-mail) at the contact information noted above, by August 27, 2008, to be placed on a list of public speakers for the meeting. Written Statements: Written statements should be received in the SAB Staff Office by August 19, 2008, so that the information may be made available to the SAB Panel members for their consideration. Written statements should be supplied to the DFO in the following formats: One hard copy with original signature, and one electronic copy via e-mail (acceptable file format: Adobe Acrobat PDF, WordPerfect, MS Word, MS PowerPoint, or Rich Text files in IBM-PC/Windows 98/2000/XP format).

Accessibility: For information on access or services for individuals with disabilities, please contact Ms. White at the phone number or e-mail address noted above, preferably at least ten days prior to the meeting to give EPA as much time as possible to process your request.

Dated: August 11, 2008.
Anthony F. Maciorowski,
Deputy Director, EPA Science Advisory Board Staff Office.

[FR Doc. E8-19072 Filed 8-15-08; 8:45 am]

BILLING CODE 6560-50-P